DEPARTMENT OF EDUCATION

National Assessment Governing Board

Meeting; Correction

AGENCY: National Assessment Governing Board, Department of Education.

ACTION: Notice; correction.

SUMMARY: The National Assessment Governing Board (Governing Board) published a document in the Federal Register on Wednesday, July 17, 2024, announcing the schedule and proposed agenda of the August 8-9, 2024 quarterly meeting of the Governing Board. The meeting agenda has been revised to reflect the below changes to the Thursday sessions of the Governing Board meeting.

FOR FURTHER INFORMATION CONTACT: Angela Scott (202) 357-7502.

SUPPLEMENTARY INFORMATION:

Correction

In the Federal Register of July 17, 2024, in FR Doc. 2024-15659, on page 58143 in the 2nd column, and on page 58144 in the 1st and 2nd columns, make the following corrections to reflect new times for these meetings. The Strategic Vision Discussion and Action session scheduled for Thursday, August 8, 2024, from 2:00 p.m. to 3:00 p.m. will now be held from 2:10 p.m. to 2:30 p.m. The meeting times for the Governing Board's standing committee meetings have changed; the meetings will now be held from 2:45 p.m. to 5:15 p.m. instead of the announced times of 3:15 p.m. to 5:15 p.m. The closed session for the Assessment Development Committee will now be held from 2:45 p.m. to 3:45 p.m. The closed session for the Committee on Standards, Design and Methodology will now begin at 3:15 p.m. to 4:15 p.m. instead of the announced time of 4:15 p.m. to 5:15 p.m. The meeting will end at 5:15 p.m. as originally announced.

Lesley A. Muldoon,
Executive Director, National Assessment Governing Board (NAGB), U.S. Department of Education.

[FR Doc. 2024-17046 Filed 8-1-24; 8:45 am]

BILLING CODE 4000-01-P